DEPARTMENT OF AGRICULTURE

Office of the Secretary

Privacy Act of 1974; New System of Records

AGENCY: Office of the Secretary, USDA.

ACTION: Notice of a new system of records.

SUMMARY: In accordance with the Privacy Act of 1974, as amended, the Department of Agriculture (USDA) is proposing to add a new Forest Service system to its inventory of records systems. USDA invites public comment on this new records system.

DATES: Comments must be received in writing, on or before May 2, 2011. This system will be adopted without further notice, on May 31, 2011, unless modified to respond to comments received from the public and published in a subsequent notice.

ADDRESSES: Send written comments to the Forest Service Freedom of Information Act and Privacy Act Officer, USDA Forest Service, 1400 Independence Avenue, SW., Mail Stop 1143, Washington, DC 20250-1143. Comments may also be sent via e-mail to wo_foia@fs.fed.us, or via facsimile to (202) 260-3245.

FOR FURTHER INFORMATION CONTACT: Sherry L. Turner, Freedom of Information Act and Privacy Act Officer, USDA Forest Service, 1400 Independence Avenue, SW., Mailstop 1143, Washington, DC 20250-1143, wo_foia@fs.fed.us, (202) 205-1542. Individuals who use telecommunication devices for the deaf (TDD) may call the Federal Relay Service (FRS) at 1-800-877-8339 between 8 a.m. and 8 p.m., Eastern Standard time, Monday through Friday.

SUPPLEMENTARY INFORMATION: Established in 1905, the Forest Service is an agency of the U.S. Department of Agriculture. The mission of USDA's Forest Service is to sustain the health, diversity, and productivity of the Nation's forests and grasslands that encompass 193 million acres of land, to meet the needs of present and future generations.

The purpose of this system is to allow USDA's Forest Service to maintain records for agency compliance and administration of the FOIA and PA laws. This system contains information on individuals who request copies of Forest Service records, file administrative appeals, request corrections or amendments, or file subsequent lawsuits under the provisions of the FOIA and PA.

A report of the new system of records, required by 5 U.S.C. 552a(r) as implemented by Office of Management and Budget (OMB) Circular A-130, was sent to the Chairman, Committee on Homeland Security and Governmental Affairs, United States Senate; the Chairman, Committee on Oversight and Government Reform, U.S. House of Representatives; and the Administrator, Office of Information and Regulatory Affairs, OMB.

Dated: March 18, 2011.
Thomas J. Vilsack,
Secretary.

System name:

Freedom of Information Act and Privacy Act Files, USDA/FS-61.

Security classification:

None.

System location:

The records in this system are collected in a Web-based system located on servers in Kansas City, Kansas. Paper records are located at the Forest Service Freedom of Information Act (FOIA) and the Privacy Act (PA) Offices located in Washington, DC, as well as the FOIA and PA Coordination offices nationwide. The addresses for the Regions, Stations, International Institute for Tropical Forestry, and Forests are listed in 36 CFR part 200, subpart A; and the addresses for Districts are in the telephone directory of the applicable locality under the heading, United States Government, Department of Agriculture, Forest Service.

Categories of individuals covered by the system:

Individuals who request copies of Forest Service records, file administrative appeals, request correction or amendment, and file subsequent lawsuits under the provisions of the FOIA or PA.

Categories of records in the system:

A copy of the request, appeal, request for correction/amendment, or subsequent lawsuit received including name, affiliation, address, telephone number, e-mail address; description of records requested, appealed, or litigated; copy of records that were provided or denied; copy of all correspondence related to the request to include final determinations; billing information to include payment delinquencies; case notes; and litigation records.

Authority for maintenance of the system:

Freedom of Information Act 5 U.S.C. 552, Privacy Act of 1974, 5 U.S.C. 552a, as amended.

Purpose(s):

The FOIA records are used and maintained by the Forest Service to record, control, and determine status of FOIA cases; and to prepare a mandatory annual FOIA report to the U.S. Department of Justice. The PA records are used and maintained by the Forest Service to record, control, and determine the status of requests to correct or amend appeals and litigation. Both the FOIA and PA records are used to produce status reports for Forest Service management and to serve as a point of reference for all events and documents pertinent to each case.

Routine uses of records maintained in the system, including categories of users and the purposes of such uses:

1. Disclose to another Federal agency in connection with a referral or consultation to that agency for its views or decision on disclosure; or in order to obtain advice and recommendations that may be useful to the Forest Service in making the required determination under the FOIA and PA.

2. Disclose to the Department of Justice when: (a) The agency or any component thereof; or (b) any employee of the agency in his or her official capacity where the Department of Justice has agreed to represent the employee; or (c) the United States Government, is a party to litigation or has an interest in such litigation, and by careful review, the agency determines that the records are both relevant and necessary to the litigation and the use of such records by the Department of Justice is therefore deemed by the agency to be for a purpose that is compatible with the purpose for which the agency collected the records.

3. Disclose to a court or adjudicative body in a proceeding when: (a) The agency or any component thereof; or (b) any employee of the agency in his or her official capacity; or (c) any employee of the agency in his or her individual capacity where the agency has agreed to represent the employee; or (d) the United States Government, is a party to the litigation or has an interest in such litigation, and by careful review, the agency determines that the records are both relevant and necessary to the litigation and the use of such records is therefore deemed by the agency to be for a purpose that is compatible with the purpose for which the agency collected the records.

4. Disclose when a record on its face, or in conjunction with other records, indicates a violation or potential violation of law, whether civil, criminal, or regulatory in nature, and whether arising by general statute or particular program statute, or by regulation, rule, or order issued pursuant thereto, disclosure may be made to the appropriate agency, whether Federal, foreign, State, local, or tribal, or other public authority responsible for enforcing or implementing the statute, or rule, regulation, or order issued pursuant thereto, if the information disclosed is relevant to any enforcement, regulatory, investigative, or prosecutive responsibility of the receiving entity.

5. Disclose to a Member of Congress or a Congressional staff member in response to an inquiry of the Congressional office made at the written request of the constituent about whom the record is maintained.

6. Disclose to the National Archives and Records Administration or to the General Services Administration for records management inspections conducted under 44 U.S.C. 2904 and 2906.

7. Disclose to agency contractors, grantees, experts, consultants, or volunteers who have been engaged by the agency to assist in the performance of a service related to this system of records and who need to have access to the records in order to perform the activity. Recipients shall be required to comply with the requirements of the Privacy Act of 1974, as amended, pursuant to 5 U.S.C. 552a(m).

8. Disclose to appropriate agencies, entities, and persons when: (1) The Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

Policies and practices for storing, retrieving, accessing, retaining, and disposing of records in the system:

Storage:

All electronic information is maintained in a web-based database and stored on secured servers in Kansas City, Kansas. Hard copy records are retrieved by name and unique request identification number in locked file cabinets in secured office buildings.

Retrievability:

Electronic records are indexed and retrieved electronically using multiple queries including name and unique request identification number, or other criteria. Hard copy records are retrieved by name of the requester and unique request identification number.

Safeguards:

All electronic information is maintained in a secure, password-protected, web-based database and stored on secured servers in Kansas City, Kansas. Hard copy records are maintained in locked file cabinets in secured office buildings. Only specifically authorized individuals can access the information.

Retention and disposal:

All electronic and hard copy records are maintained under file code 6270 and retained and disposed of in accordance with the appropriate General Records Schedules of the National Archives and Records Administration. Electronic records are deleted, and paper records are shredded and destroyed.

System manager(s) and Address:

Freedom of Information Act and Privacy Act Officer, USDA Forest Service, 1400 Independence Avenue, SW., Mailstop 1143, Washington, DC, 20250-1143, wo_foia@fs.fed.us, (202) 205-1542.

Notification procedure:

Any individual may request information regarding this system of records or information as to whether the system contains records pertaining to him or her from the system manager listed above. The request should be in writing and should contain the name and address of the requester.

Record access procedures:

Use the same procedures as those prescribed in Notification procedures.

Contesting record procedures:

Use the same procedures as those described in Notification procedures.

Record source categories:

Individuals who submit requests for information pursuant to the FOIA and PA, the agency records obtained in the process of responding to such requests and appeals, and Forest Service personnel who handle such requests and appeals.

Exemptions claimed for the system:

None.

U.S. Department of Agriculture; Privacy Act System of Records; Freedom of Information Act and Privacy Act Case Files USDA/FS-61; Narrative Statement

The purpose of the proposed system is to provide the United States Department of Agriculture's (USDA) Forest Service (FS) the capability to record, control, and determine the status of Freedom of Information Act (FOIA) and Privacy Act (PA) cases, and to prepare a mandatory annual FOIA report to the U.S. Department of Justice. The FOIA and PA Case files are managed by the Office of Regulatory and Management Services Freedom of Information Act/Privacy Act staff. The Forest Service is the administrative agency for this system.

The authority for maintaining this system of records is the Freedom of Information Act, 5 U.S.C. 552; and the Privacy Act of 1974, 5 U.S.C. 552a, as amended.

The information gathered is voluntarily submitted by individuals who request agency records pursuant to the FOIA and PA. The system of records consists of a copy of the request, appeal, request for correction/amendment, or subsequent lawsuit received; a description of the records requested, appealed, or litigated; a copy of records that were provided or denied; a copy of all correspondence related to the case to include final determinations; billing information to include payment delinquencies; and case notes. Information collected includes the individual's name, address, telephone number, and email address.

The records will be accessible only to authorized agency personnel who need to view the information in order to conduct their assigned duties. All electronic information is maintained by the Forest Service in a web-based database and stored on secured servers in Kansas City, Kansas. Hard copy records are retrieved by name and unique request identification number in lockable file cabinets in office buildings that require USDA employee identification badges or visitors passes to enter.

The system provides for the following routine use disclosures that are necessary and proper for the agency's administration of its duties in connection with the operation of the FOIA/PA program: in connection with a referral or consultation with another agency; in connection with litigation; for law enforcement purposes; for responses to Congressional inquiries; to the National Archives and Records Administration and the General Services Administration for records inspections; on a limited basis to entities engaged by the agency in the performance of a service; and in connection with information security breaches in order to protect the interests of the individuals covered by the system. While these routine uses allow disclosures outside USDA, and so have some impact on privacy of individuals, they are either necessary for carrying out the agency mission and minimizing waste, fraud, and abuse, are required by law, or benefit the subjects of the records. On balance, the needs of the agency and the benefits to the individuals of these disclosures justify the minimal impact on privacy.

The system of records is not exempt from any provisions of the Privacy Act.

[FR Doc. 2011-7724 Filed 3-31-11; 8:45 am]

BILLING CODE 3410-11-P